DEPARTMENT OF COMMERCE

International Trade Administration

Export Trade Certificate of Review

ACTION: Notice of application to amend an Export Trade Certificate of Review.

SUMMARY: The Office of Export Trading Company Affairs (“OETCA”), International Trade Administration, Department of Commerce, has received an application to amend an Export Trade Certificate of Review (“Certificate”). This notice summarizes the proposed amendment and requests comments relevant to whether the Certificate should be issued.

FOR FURTHER INFORMATION CONTACT: Morton Schnabel, Director, Office of Export Trading Company Affairs, International Trade Administration, (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 95-3A006.”

The Water and Wastewater Equipment Manufacturers Association's (“WWEMA”) original Certificate was issued on June 21, 1996 (61 FR 36708, July 12, 1996) and previously amended on May 20, 1997 (62 FR 29104, May 29, 1997) and February 23, 1998 (63 FR 10003, February 27, 1998). A summary of the application for an amendment follows.

Summary of the Application:

Applicant: The Water and Wastewater Equipment Manufacturers Association, 101 E. Holly Avenue, Suite 3, Sterling, Virginia 20164.

Contact: Randolph J. Stayin, Counsel, Telephone: (202) 289-1313.

Application No.: 95-3A006.

Date Deemed Submitted: November 2, 2000.

Proposed Amendment: WWEMA seeks to amend its Certificate to:

1. Add each of the following companies as a new “Member” of the Certificate within the meaning of section 325.2(1) of the Regulations (15 CFR 325.2(1)): Aqua-Aerobic Systems, Inc., Rockford, Illinois; Pentair Pump Group, Inc., North Aurora, Illinois; and Sanitaire Corporation, Brown Deer, Wisconsin;

2. Delete the following companies as “Members” of the Certificate: Aero-Mod, Incorporated, Manhattan, Kansas; Elsag Bailey Process Automation N.V. for the activities of its unit Bailey-Fischer & Porter Company, Warminster, Pennsylvania; CBI Walker, Inc., Aurora, Illinois; Dorr-Oliver Incorporated, Milford, Connecticut; Enviroquip, Inc., Austin, Texas; General Signal Corporation for the activities of its unit General Signal Pump Group, North Aurora, Illinois; Great Lakes Environmental, Inc., Addison, Illinois; Hycor Corporation, Lake Bluff, Illinois; I. Kruger, Inc., Cary, North Carolina; Jeffrey Chain Corporation, Morristown, Tennessee; Mass Transfer Systems, Inc., Fall River, Massachusetts; Patterson Pump Co., Taccoa, Georgia; SanTech, Inc. dba Sanborn Technologies, Medway, Massachusetts; Wallace & Tiernan, Inc., Belleville, New Jersey; Water Equipment Technologies, Inc., West Palm Beach, Florida; Water Pollution Control Corp, Brown Deer, Wisconsin; Waterlink, Inc., Canton, Ohio; and Waterlink Operational Services, Inc. dba Blue Water Services, Manhattan, Kansas;

3. Change the listing of the company name for the current Member A.O. Smith Harvestore Products, Inc. to the new listing A.O. Smith Engineered Storage Products Company; and

4. Remove from the current Certificate, the restriction found under Export Trade Activities and Methods of Operation Paragraph F (1-3) placed on Restricted Members Conservatek Industries, Inc. and Temcor regarding the Restricted Product Aluminum Covers:

1. Participation in any price discussion is limited to instances in which the prices are discussed and determined solely in the following manner: a Neutral Third Party, as hereinafter defined, acting independently, will obtain price information concerning each Restricted Product for which the Restricted Members listed in conjunction therewith intend to participate as part of a joint bid or other sales arrangement, and will incorporate such price information into the bid or other arrangement.

(i) For purposes of this paragraph, “acting independently” means that the Neutral Third Party who obtains the price information from the Restricted Members, and who negotiates offer prices on behalf of the Restricted Members, will not disclose the price information of one Restricted Member to another Restricted Member intending to participate in a joint bid or other sales arrangement as a Supplier of the Restricted Products.

(ii) For purposes of this paragraph, “Neutral Third Party” means an individual, partnership, corporation (profit or non-profit), or any representative thereof which is not engaged in the manufacture, distribution, or sale of any Restricted Product. Any Member may be a Neutral Third Party as long as it meets the requirements set out above.

2. The limitation set forth in paragraph F.1 above also shall apply to instances where more than one Restricted Member intends to participate in the joint bid or other sales arrangement but the participation of one is solely as an Export Intermediary for the Export Trade Activity or Method of Operation.

3. Neither WWEMA nor any Member participating in the Export Trade Activity or Method of Operation shall disclose the price information of one Restricted Member to another Restricted Member with respect to the relevant Restricted Product.

Dated: November 8, 2000.
Morton Schnabel,
Director, Office of Export Trading Company Affairs.

[FR Doc. 00-29092 Filed 11-14-00; 8:45 am]

BILLING CODE 3510-DR-P